DEPARTMENT OF TRANSPORTATION

Federal Highway Administration

Notice of Availability of a Record of Decision for the Trunk Highway 41 River Crossing Tier I Final Environmental Impact Statement

AGENCY: Federal Highway Administration (FHWA), DOT.

ACTION: Notice of availability.

SUMMARY: On March 16, 2015, the Minnesota Division of the FHWA signed the Record of Decision (ROD) for the Trunk Highway 41 River Crossing Tier I Final Environmental Impact Statement (FEIS). The ROD states the FHWA decision to declare the modified Alternative C-2 corridor as the selected alternative. The selected alternative involves the construction of a new east-west freeway connection between US 169 and US 212 within the modified Alternative C-2 corridor. The selected alternative is the environmentally-preferred alternative.

The Tier I FEIS was made available to the public on December 12, 2014, through an NOA in the Federal Register (79 FR 73890) with a comment period that ended on January 12, 2015. See For Further Information Contact to request a copy of the ROD.

FOR FURTHER INFORMATION CONTACT: Philip Forst, Environmental Specialist, Federal Highway Administration, Minnesota Division, 380 Jackson Street, Ste. 500, Saint Paul, MN 55101, (651) 291-6110.

Authority: 40 CFR 1505.2

Issued on: March 31, 2015.
David J. Scott,
Acting Division Administrator, Federal Highway Administration.

[FR Doc. 2015-08186 Filed 4-9-15; 8:45 am]

BILLING CODE 4910-22-P